DEPARTMENT OF DEFENSE

Department of the Army, Corps of Engineers

Notice of Intent To Prepare a Supplemental Environmental Impact Statement to the 2014 Final Integrated Feasibility Report and Environmental Impact Statement for the West Shore Lake Pontchartrain Hurricane and Storm Damage Risk Reduction Study, St. Charles, St. James, and St. John the Baptist Parishes

AGENCY: U.S. Army Corps of Engineers, DoD.

ACTION: Notice of intent.

SUMMARY: The U.S. Army Corps of Engineers (USACE), Mississippi Valley Division, New Orleans District (CEMVN), is announcing its intent to prepare a Supplemental Environmental Impact Statement (SEIS) to reevaluate alternatives to compensate for unavoidable impacts to swamp habitat associated with the construction of the West Shore Lake Pontchartrain Hurricane and Storm Damage Risk Reduction Project (hereafter WSLP Project). Compensatory mitigation for impacts due to construction of the WSLP Project was described previously in the 2014 WSLP Environmental Impact Statement (EIS) and in Environmental Assessment (EA) 576, which addressed mitigation for habitat impacts associated with each of CEMVN's Bipartisan Budget Act (BBA) of 2018 funded risk reduction projects (i.e., the WSLP Project, Comite River Diversion Project, and the East Baton Rouge Parish Watershed Flood Risk Management Project). The Finding of No Significant Impact (FONSI) for EA 576 was signed by the CEMVN District Commander on April 4, 2020. Public comment on EA 576 included requests by the Louisiana's Coastal Protection Restoration Authority (CPRA) and others that the Mississippi River Diversion into Maurepas Swamp Project (hereafter MSP), a proposed ecological restoration project that shares construction features with the WSLP Project, be considered as a mitigation alternative for impacts to swamp habitat associated with the construction of the WSLP Project. Anticipated impacts to swamp habitat as a result of the construction of the MSP, estimated to be approximately 55 Average Annual Habitat Units (AAHU), would be self-mitigated by the operation of the diversion. Impacts to bottom land hardwood (BLH) habitat because of the MSP construction would be approximately 30 AAHU. These BLH impacts would be mitigated in accordance with EA 576.

ADDRESSES: U.S. Army Corps of Engineers, New Orleans District, Attn: CEMVN-PDC-C, 7400 Leake Avenue, New Orleans, Louisiana, 70118.

FOR FURTHER INFORMATION CONTACT: Questions and scoping comments regarding the proposed action should be directed to Mr. Landon Parr at U.S. Army Corps of Engineers, New Orleans District, Attn: CEMVN-PDC-C, 7400 Leake Avenue, New Orleans, Louisiana 70118, by phone (504) 862-1908, or by email at Landon.Parr@usace.army.mil. For additional information, including but not limited to a copy of 2014 WSLP EIS, and other associated documents, please visit the WSLP Project website at: https://www.mvn.usace.army.mil/Missions/Environmental/NEPA-Compliance-Documents/Bipartisan-Budget-Act-2018-BBA-18/West-Shore-Lake-Pontchartrain/.

SUPPLEMENTARY INFORMATION:

1. Project Details. The WSLP Project is located in southeast Louisiana on the east-bank of the Mississippi River in St. Charles, St. John the Baptist, and St. James Parishes. Part of the Water Infrastructure Improvement for the Nation Act (WIIN Act, Pub. L. 114-322) in 2016 authorized construction of the WSLP Project. The BBA of 2018 (BBA 2018, Pub. L. 115-123) funded construction of the WSLP Project. The WSLP Project is described in the 2014 WSLP EIS; West Shore Lake Pontchartrain Hurricane and Storm Damage Risk Reduction Structural Alignment Surveys and Borings Investigations St. Charles and St. John the Baptist Parishes, Louisiana Supplemental Environmental Assessment (SEA) 570; and West Shore Lake Pontchartrain Hurricane and Storm Damage Risk Reduction Levee System, St. Charles and St. John the Baptist Parishes, Louisiana SEA 571. The WSLP Project is approximately 19 miles in length and includes approximately 18 miles of levee, one mile of T-wall, six pumping stations with associated drainage structures, one gated road crossing, two gated railroad crossings, and approximately 35 utility relocations.

The Record of Decision (ROD) for the 2014 WSLP EIS was signed by the Assistant Secretary of the Army, Civil Works on September 14, 2016. SEA 570 investigated levee alignment shifts as well as the addition of five stockpile/staging areas for construction related activities. The FONSI associated with SEA 570 was signed by the CEMVN District Commander on May 13, 2019. SEA 571 evaluated additional changes to the WSLP levee alignment, the addition of four borrow areas, widening of the levee alignment, minor modifications to previously assessed access roads, and the addition of three access roads. The FONSI associated with SEA 571 was signed by the CEMVN District Commander on June 29, 2020.

Based on the changes to date, the WSLP Project could impact approximately 10,895 acres of swamp and 4,880 acres of wetland bottomland hardwoods (BLH-Wet) in the Louisiana (LA) Coastal Zone (CZ). This equates to a compensatory mitigation need of approximately 1,010 AAHU of CZ swamp (if the MSP is selected) [including direct impacts to swamp associated with construction of the MSP (~55 AAHU), and direct (~600 AAHU) and indirect (~355 AAHU) impacts to swamp associated with the construction of WSLP] and approximately 295 AAHU of CZ BLH-Wet (BLH habitat impacted by the construction of the WSLP Project would be mitigated in accordance with EA 576).

This Supplemental EIS would provide an assessment of proposed alternative projects to compensate for the WSLP Project's swamp impacts and it would identify the Tentatively Selected Alternative. When unavoidable impacts occur, the CEMVN is required to offset those impacts through compensatory mitigation by replacing the lost habitat's functions and services equally and in-kind. Compensatory mitigation is required by the Water Resources Development Act (WRDA) of 1986, Section 906, as amended, and by the Clean Water Act Section 404(b)(1) Guidelines. The MSP is a freshwater diversion that would reconnect the Mississippi River to the Maurepas Swamp, strategically delivering nutrient-laden river water to restore a degraded Cypress-Tupelo swamp. The proposed diversion has a 2,000 cubic foot per second (cfs) design flow. The freshwater intake structure and conveyance channel are located on the east bank of the Mississippi River in St. John the Baptist Parish, immediately west of Garyville, Louisiana, at River Mile 144 Above Head of Passes. The construction corridor for the conveyance channel extends from LA 44 (River Road) northward for 5½ miles, terminating at the outfall structure, which is approximately 1,000 ft north of Interstate 10.

2. Scoping Process. The CEMVN invites all affected federal, state, and local agencies, affected Native American Tribes, other interested parties, and the general public to participate in the National Environmental Policy Act (NEPA) scoping process during development of the SEIS. The purpose of the public scoping process is to provide information to the public, narrow the scope of analysis to significant environmental issues, serve as a mechanism to solicit agency and public input on potential alternatives and issues of concern, and ensure full and open participation in scoping for the SEIS. CEMVN requests input from interested parties regarding potential WSLP mitigation alternatives and information and analyses relevant to the proposed MSP. To ensure that all the issues related to the proposed MSP are addressed, the CEMVN will conduct virtual and, if permissible, in-person public scoping meeting(s) to which agencies, organizations, and members of the general public are invited to present comments or suggestions with regard to the range of actions, alternatives, and potential impacts to be considered in the SEIS. Project and public scoping meeting information, including information as to where, when, and how to participate and submit scoping comments as well as other opportunities for public involvement, will be available on CEMVN's website at: https://www.mvn.usace.army.mil/Missions/Environmental/NEPA-Compliance-Documents/Bipartisan-Budget-Act-2018-BBA-18/West-Shore-Lake-Pontchartrain/.

Notification of public scoping meetings will also be available via press releases, special public notices, and on CEMVN's social media platforms.

3. Federal Authority. The SEIS will disclose the context and intensity of environmental impacts, including focusing the analysis on those effects that are reasonably foreseeable and that have a reasonably close causal relationship to the proposed action as required under the Council of Environmental Quality's (CEQ) NEPA regulations at 40 CFR parts 1500-1508 and the Department of the Army's NEPA regulations at 33 CFR part 230. A reasonable range of alternatives will be determined, and significant issues related to the proposed action will be identified during public scoping.

The following agencies are being invited to participate as Cooperating Agencies on the SEIS: United States Environmental Protection Agency; United States Department of the Interior, Fish and Wildlife Service (USFWS); United States Department of Commerce, National Marine Fisheries Service (NMFS); United States Department of Agriculture, Natural Resources Conservation Service; Advisory Council on Historic Preservation (ACHP); State of Louisiana, Historic Preservation Office (SHPO), State of Louisiana Department of Natural Resources (LDNR), State of Louisiana Department of Wildlife and Fisheries (LDWF), and State of Louisiana, Coastal Protection and Restoration Authority (CPRA).

4. Alternatives. The SEIS will address a reasonable range of alternatives based on the proposed Project's purpose and need. The SEIS will compare, at a minimum, the previously identified BBA Alternative for the WSLP Project in EA 576 to Alternative 1 (MSP-1: Public and Private Lands) and Alternative 2 (MSP-2: Public Land Only) by using the Alternatives Evaluation and Comparison (AEC) process. The results of the AEC process would be presented in the SEIS. The BBA Alternative would compensate for the WSLP Project impacts of 955 AAHU of CZ swamp. The MSP Alternative would compensate for WSLP Project impacts of approximately 1,010 AAHU of CZ swamp.

5. Potentially Significant Issues. The SEIS will analyze the potential impacts on the human and natural environment resulting from the Project. The scoping, public involvement, and interagency coordination processes will help identify and define the range of potential significant issues that will be considered. Important resources and issues to be evaluated in the SEIS could include, but are not limited to, the reasonably foreseeable effects on tidal wetlands and other waters of the U.S.; aquatic resources; commercial and recreational fisheries; wildlife resources; essential fish habitat; water quality; cultural resources; geology and soils; hydrology and hydraulics; air quality; marine mammals; threatened and endangered species and their critical habitats; navigation and navigable waters; induced flooding; employment and incomes; land use; property values; tax revenues; population and housing; community and regional growth; environmental justice; community cohesion; public services; recreation; transportation and traffic; utilities and community service systems.

6. Environmental Consultation and Review and Authorizations. The proposed action is being coordinated with a number of federal, state, regional, and local agencies. In accordance with relevant environmental laws and regulations, CEMVN will consult with the following agencies: USFWS under the Fish and Wildlife Coordination Act; USFWS and NMFS under the Endangered Species Act; NMFS under the Magnuson-Stevens Fishery Conservation and Management Act; LDNR for Coastal Zone Consistency determination concurrence; and LDEQ for Clean Water Act, Section 401 Water Quality Certification; and, the ACHP, Louisiana SHPO, and the appropriate Tribal Historic Preservation Officers under the National Historic Preservation Act using an integrated NHPA Section 106/NEPA EIS process.

7. Availability. The SEIS is presently scheduled to be available for public review and comment in October 2021. A Final SEIS is scheduled for release in January 2022. A decision regarding implementation of the MSP is expected in 2022. All comments received throughout the review process will become part of the project file for the proposed Project and will be subject to public release.

Edward E. Belk, Jr.,
Programs Director, Mississippi Valley Division, U.S. Army Corps of Engineers.

[FR Doc. 2021-17313 Filed 8-12-21; 8:45 am]

BILLING CODE 3720-58-P